SUSQUEHANNA RIVER BASIN COMMISSION

Actions Taken at March 8, 2018, Meeting

AGENCY: Susquehanna River Basin Commission.

ACTION: Notice.

SUMMARY: As part of its regular business meeting held on March 8, 2018, in State College, Pennsylvania, the Commission took the following actions: (1) Approved or tabled the applications of certain water resources projects; and (2) took additional actions, as set forth in the Supplementary Information below.

DATES: March 8, 2018.

ADDRESSES: Susquehanna River Basin Commission, 4423 N. Front Street, Harrisburg, PA 17110-1788.

FOR FURTHER INFORMATION CONTACT: Jason E. Oyler, General Counsel, telephone: 717-238-0423, ext. 1312; fax: 717-238-2436; joyler@srbc.net. Regular mail inquiries may be sent to the above address. See also Commission website at www.srbc.net.

SUPPLEMENTARY INFORMATION: In addition to the actions taken on projects identified in the summary above and the listings below, the following items were also presented or acted upon at the business meeting: (1) Presentation of the Commission's Maurice K. Goddard Award for Excellence by a Water Management Professional to Mr. Mark Hartle; (2) adoption of a budget reconciliation for the 2019 fiscal year; (3) approval of two agreements and authorization of the Executive Director to spend $300,000 from the Commission's Water Management Fund to complete the Billmeyer Quarry consumptive use mitigation site characterization and testing, including payment to the Lancaster County Solid Waste Management Authority of $75,000; (4) adoption of final rules pertaining to the amendment of Commission regulations to codify and strengthen the Commission's Access to Records Policy; and (5) approval of a request from South Middleton Township Municipal Authority to waive the deadline for submittal of its groundwater withdrawal renewal application.

Project Applications Approved:

The Commission approved the following project applications:

1. Project Sponsor and Facility: Cabot Oil & Gas Corporation (East Branch Tunkhannock Creek), Lenox Township, Susquehanna County, Pa. Surface water withdrawal of up to 1.000 mgd (peak day).

2. Project Sponsor: Mayapple Real Estate Holdings. Project Facility: Mayapple Golf Links, South Middleton Township, Cumberland County, Pa. Consumptive use of up to 0.200 mgd (peak day).

3. Project Sponsor: Mayapple Real Estate Holdings. Project Facility: Mayapple Golf Links, South Middleton Township, Cumberland County, Pa. Groundwater withdrawal of up to 0.099 mgd (30-day average) from Well 1.

4. Project Sponsor and Facility: Repsol Oil & Gas USA, LLC (Fall Brook), Ward Township, Tioga County, Pa. Renewal of surface water withdrawal of up to 0.999 mgd (peak day) (Docket No. 20140313).

5. Project Sponsor and Facility: Repsol Oil & Gas USA, LLC (Fellows Creek), Ward Township, Tioga County, Pa. Renewal of surface water withdrawal of up to 0.999 mgd (Docket No. 20140314).

6. Project Sponsor and Facility: Seneca Resources Corporation (Arnot No. 5 Mine Discharge), Bloss Township, Tioga County, Pa. Renewal of surface water withdrawal of up to 0.499 mgd (peak day) (Docket No. 20140311).

7. Project Sponsor and Facility: SWEPI LP (Susquehanna River), Sheshequin Township, Bradford County, Pa. Renewal of surface water withdrawal of up to 0.850 mgd (peak day) (Docket No. 20140312).

8. Project Sponsor and Facility: SWN Production Company, LLC (Susquehanna River), Great Bend Township, Susquehanna County, Pa. Renewal of surface water withdrawal of up to 2.500 mgd (peak day) (Docket No. 20140302).

9. Project Sponsor and Facility: XTO Energy Inc. (Little Muncy Creek), Moreland Township, Lycoming County, Pa. Renewal of surface water withdrawal of up to 0.249 mgd (peak day) (Docket No. 20140315).

Project Applications Tabled:

The Commission tabled action on the following project applications:

1. Project Sponsor and Facility: Brymac, Inc. dba Mountain View Country Club (Pond ¾), Harris Township, Centre County, Pa. Application for surface water withdrawal of up to 0.240 mgd (peak day).

2. Project Sponsor and Facility: Dillsburg Area Authority, Franklin Township, York County, Pa. Modification to increase groundwater withdrawal by an additional 0.099 mgd (30-day average), for a total groundwater withdrawal of up to 0.200 mgd (30-day average) from Well 3 (Docket No. 20081207).

3. Project Sponsor and Facility: Lycoming Engines, a Division of Avco Corporation, City of Williamsport, Lycoming County, Pa. Application for renewal of groundwater withdrawal of up to 0.980 mgd (30-day average) for groundwater remediation system (Docket No. 19880203).

Authority: Pub. L. 91-575, 84 Stat. 1509 et seq., 18 CFR parts 806, 807, and 808.

Dated: March 23, 2018.
Stephanie L. Richardson,
Secretary to the Commission.

[FR Doc. 2018-06218 Filed 3-27-18; 8:45 am]

BILLING CODE 7040-01-P